TENNESSEE VALLEY AUTHORITY

Sunshine Act Meetings

TIME AND DATE: 9:00 a.m. ET on May 10, 2023.

PLACE: Norris Middle School, 5 Norris Square, Norris, Tennessee.

STATUS: Open.

MATTERS TO BE CONSIDERED:

Meeting No. 23-02

The TVA Board of Directors will hold a public meeting on May 10, 2023, at the Norris Middle School, 5 Norris Square, Norris, Tennessee.

The meeting will be called to order at 9:00 a.m. ET to consider the agenda items listed below. TVA management will answer questions from the news media following the Board meeting.

On May 9, at the Norris Middle School, the public may comment on any agenda item or subject at a board-hosted public listening session which begins at 2 p.m. ET and will last until 4:00 p.m. Preregistration is required to address the Board.

Agenda

1. Chair's Welcome

2. Report of the External Stakeholders and Regulation Committee

A. BVU Authority Power Contract Amendment

3. Report of the Audit, Finance, Risk, and Cybersecurity Committee

4. Report of the Operations and Nuclear Oversight Committee

A. Proposed Endorsement and Delegation Amendment

5. Report of the People and Governance Committee

6. Report from President and CEO

CONTACT PERSON FOR MORE INFORMATION: For more information: Please call Ashton Davies, TVA Media Relations at (865) 632-6000, Knoxville, Tennessee. Anyone who wishes to comment on any of the agenda in writing may send their comments to: TVA Board of Directors, Board Agenda Comments, 400 West Summit Hill Drive, Knoxville, Tennessee 37902.

Dated: May 3, 2023.
Edward C. Meade,
Agency Liaison.

[FR Doc. 2023-10107 Filed 5-8-23; 4:15 pm]

BILLING CODE 8120-08-P